NATIONAL TRANSPORTATION SAFETY BOARD

Sunshine Act Meetings

TIME AND DATE: 9:30 a.m., Tuesday, October 30, 2018.

PLACE: NTSB Conference Center, 429 L'Enfant Plaza SW, Washington, DC 20594.

STATUS: The one item is open to the public.

MATTERS TO BE CONSIDERED:

58536 Railroad Accident Report: Derailment and Hazardous Materials Release of Union Pacific Railroad Unit Ethanol Train in Graettinger, Iowa, March 10, 2017

News Media Contact: Telephone: (202) 314-6100. The press and public may enter the NTSB Conference Center one hour prior to the meeting for set up and seating.

Individuals requesting specific accommodations should contact Rochelle McCallister at (202) 314-6305 or by email at Rochelle.McCallister@ntsb.gov by Wednesday, October 24, 2018.

The public may view the meeting via a live or archived webcast by accessing a link under “News & Events” on the NTSB home page at www.ntsb.gov.

Schedule updates, including weather-related cancellations, are also available at www.ntsb.gov.

For More Information Contact: Candi Bing at (202) 314-6403 or by email at bingc@ntsb.gov.

For Media Information Contact: Peter Knudson at (202) 314-6100 or by email at peter.knudson@ntsb.gov.

Dated: October 12, 2018.
LaSean McCray,
Assistant Federal Register Liaison Officer.

[FR Doc. 2018-22572 Filed 10-12-18; 11:15 am]

BILLING CODE 7533-01-P